DEPARTMENT OF THE INTERIOR

National Park Service

[NPS-WASO-NAGPRA-NPS0024038: PPWOCRADN0-PCU00RP14.R50000]

Notice of Inventory Completion: Robbins Museum of Archaeology, Middleborough, MA

AGENCY: National Park Service, Interior.

ACTION: Notice.

SUMMARY: The Robbins Museum of Archaeology has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Robbins Museum of Archaeology. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Robbins Museum of Archaeology at the address in this notice by October 23, 2017.

ADDRESSES: Lindsay Randall, Robbins Museum of Archaeology, 17 Jackson Street, Middleborough, MA 02346, telephone (978) 7497-4496, email lrandall@andover.edu.

SUPPLEMENTARY INFORMATION: Notice is here given in accordance with the Native American Graves Protection and Repatriation Act (NAGPRA), 25 U.S.C. 3003, of the completion of an inventory of human remains and associated funerary objects under the control of the Robbins Museum of Archaeology, Middleborough, MA. The human remains and associated funerary objects were removed from the Mansion Inn site, Wayland, MA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Robbins Museum of Archaeology professional staff in consultation with representatives of the Wampanoag Repatriation Confederation, representing the Mashpee Wampanoag Tribe (previously listed as the Mashpee Wampanoag Indian Tribal Council, Inc.) and the Wampanoag Tribe of Gay Head (Aquinnah) as well as the Assonet Band of the Wampanoag Nation and the Nipmuc Nation (non-federally recognized Indian groups).

History and Description of the Remains

In June 1959, human remains representing, at minimum, two individuals were removed from the Mansion Inn site (19-MD-210) in Middlesex County, MA. The human remains were included in collections given to the Robbins Museum by Leslie Longworth, Sr., Alan Longworth, and Alfred Mansfield, or their heirs, in the 1970s and 1980s. The human remains consist of one burned and calcined bone (Robbins Museum/Massachusetts Archaeological Society Object #279.01) from one individual, age and sex indeterminate, and one set of 3 human teeth (Object #946.00) from one individual, age and sex indeterminate. No known individuals were identified. The 350 associated funerary objects are 6 lots of burned & calcined mammal bones; 60 cobbles and cobble fragments; 1 lot of over 1,000 lithic debitage; 9 lithic drills; 8 fire cracked rock; 23 fire starters/fire starter kits, including debris; 4 flaked stone tools; 12 lithic fragments; 44 ground stone tools; 5 lots red ochre; 1 copper adze; 2 lots charred wood; 1 lithic petroglyph; 1 lot of over 900 points/blades/bifaces; 37 broken points/blades/bifaces; 4 possible shaft abraders; 2 blade preforms; 1 probable blade fragment; 45 unidentified stone fragments; 1 stone adze; 2 possible chopping tool fragments; 9 stone celt, celt fragments, and probable celt fragments; 1 stone axe/celt/chopping tool fragment; 3 unidentified worked stone fragments; 2 grooved stone tool fragments; 7 grooved stone axes; 5 stone gouges; 1 pebble; 1 possible core; 16 possible stone tool fragments; 3 unidentified stone tools; 26 stone slabs; 5 ceramic sherds; and 2 stone tool fragments, adze or axe. An additional 6 associated funerary objects currently missing from the collection are 1 debitage/lithic flake (#12380); 4 broken points/blades, probably Mansion Inn type (#s 10481, 10532, 10775, and 10815); and 1 point/blade, Mansion Inn, variety Dudley (#10136).

The human remains and associated funerary objects were removed from site 19-MD-210 by a number of individuals in 1959 when construction activity at the site of the old Mansion Inn revealed the presence of archeological features. The site was looted by local children, their parents, and friends, assisted by local collectors. Many kept what they had excavated, though some human remains and funerary objects were preserved in museum collections. Frederick Johnson, curator of the Robert S. Peabody Foundation for Archaeology (now the Robert S. Peabody Museum of Archaeology) undertook salvage excavations to recover some information about the site. Human remains and funerary objects removed by Johnson, Curtis Chapin, Alfred Mansfield, Leslie Longworth, Sr., William Brierly, and others were ultimately preserved in the Robert S. Peabody Museum of Archaeology and the Robbins Museum of Archaeology.

Excavations, studies, and one radiocarbon assay on organic material date the site from approximately 2111 to 1697 B.C. This is consistent with the Watertown Phase and subsequent Coburn Group of the Late Archaic Susquehanna Tradition (3900 to 2600 BP). Multiple lines of evidence guided by tribal consultations, including geographic location, maps, oral tradition, linguistic, and archeological data, demonstrate a shared group identity between the human remains and associated funerary objects in this notice and the Wampanoag Repatriation Confederation, representing the Mashpee Wampanoag Indian Tribe (previously listed as the Mashpee Wampanoag Indian Tribal Council, Inc.) and the Wampanoag Tribe of Gay Head (Aquinnah) as well as the Assonet Band of the Wampanoag Nation and the Nipmuc Nation (non-federally recognized Indian groups).

Determinations Made by the Robbins Museum of Archaeology

Officials of the Robbins Museum of Archaeology have determined that:

• Pursuant to 25 U.S.C. 3001(9), the human remains described in this notice represent the physical remains of 2 individuals of Native American ancestry.

• Pursuant to 25 U.S.C. 3001(3)(A), the 350 objects described in this notice are reasonably believed to have been placed with or near individual human remains at the time of death or later as part of the death rite or ceremony. An additional 6 associated funerary objects currently missing from the collection.

• Pursuant to 25 U.S.C. 3001(2), there is a relationship of shared group identity that can be reasonably traced between the Native American human remains and associated funerary objects and the Wampanoag Repatriation Confederation, representing the Mashpee Wampanoag Indian Tribe (previously listed as the Mashpee Wampanoag Indian Tribal Council, Inc.) and the Wampanoag Tribe of Gay Head (Aquinnah). Additionally, a cultural relationship is determined to exist between the human remains and the Assonet Band of the Wampanoag Nation and the Nipmuc Nation, which are non-federally recognized Indian groups.

Additional Requestors and Disposition

Lineal descendants or representatives of any Indian tribe or Native Hawaiian organization not identified in this notice that wish to request transfer of control of these human remains and associated funerary objects should submit a written request with information in support of the request to Lindsay Randall, Robbins Museum of Archaeology, 17 Jackson Street, Middleborough, MA 02346, telephone (978) 7497-4496, email lrandall@andover.edu, by October 23, 2017. After that date, if no additional requestors have come forward, transfer of control of the human remains and associated funerary objects to the Wampanoag Repatriation Confederation, representing the Mashpee Wampanoag Indian Tribe (previously listed as the Mashpee Wampanoag Indian Tribal Council, Inc.) and the Wampanoag Tribe of Gay Head (Aquinnah), and, if joined to one or more of the culturally affiliated tribes, the Assonet Band of the Wampanoag Nation and the Nipmuc Nation, which are non-federally recognized Indian groups, may proceed.

The Robbins Museum of Archaeology is responsible for notifying the Wampanoag Repatriation Confederation, representing the Mashpee Wampanoag Indian Tribe (previously listed as the Mashpee Wampanoag Indian Tribal Council, Inc.) and the Wampanoag Tribe of Gay Head (Aquinnah) as well as the Assonet Band of the Wampanoag Nation and the Nipmuc Nation (non-federally recognized Indian groups) that this notice has been published.

Dated: August 21, 2017.
Melanie O'Brien,
Manager, National NAGPRA Program.

[FR Doc. 2017-20297 Filed 9-21-17; 8:45 am]

BILLING CODE 4312-52-P